SMALL BUSINESS ADMINISTRATION

Export Express Pilot Program

AGENCY: U.S. Small Business Administration (SBA).

ACTION: Notice of Pilot Program extension.

SUMMARY: This notice announces the extension of SBA's Export Express Pilot Program until December 31, 2009. This extension will allow time for the Agency to continue its evaluation of this loan program for exporters, including the possible delivery of export express loans by lenders in SBA's Preferred Lenders-Export Working Capital Program (PLP-EWCP), consultation with lenders to solicit feedback on future program enhancements, and analysis of the Program's performance over the next 15 months.

DATES: The Export Express Pilot Program is extended under this notice until December 31, 2009.

FOR FURTHER INFORMATION CONTACT: Patrick Tunison, Office of International Trade, U.S. Small Business Administration, 409 Third Street, SW., Washington, DC 20416; Telephone (202) 205-7429; Patrick.Tunison@sba.gov.

SUPPLEMENTARY INFORMATION: The Export Express Pilot Program was established in 1998 to assist current and prospective small exporters, particularly those needing revolving lines of credit. Export Express is an SBA Pilot Program under the agency's 7(a) lending program that extends streamlined program requirements to small business exporters and lenders. The maximum loan amount under this Program is currently limited to $250,000. The pilot was scheduled to end on September 30, 2008.

This notice announces the extension of SBA's Export Express Pilot Program until December 31, 2009.

Exports attributed to small businesses have grown from $300 billion in 2002 to $477 billion in 2007. During this time period, the number of small business exporters grew from 215,000 to 237,000, representing 97% of all U.S. exporters. In order for the Export Express loan product to reach maximum potential and serve the special capital needs of U.S. small business exporters, SBA is refocusing its efforts on Export Express and developing a strategic marketing plan to the U.S. small business community and to the Agency's lending partners, including its Preferred Lenders for both the domestic 7(a) loan programs as well as the Export Working Capital Loan Program (PLP-EWCP).

The further extension of this pilot program through December 31, 2009 will enable the Agency to analyze the program's existing performance and to obtain input from international lenders regarding the current structure of the Export Express Program, so that any future changes to the program are based on lender input and performance analysis.

Authority: 13 CFR 120.3.

Grady B. Hedgespeth,
Director, Office of Financial Assistance.

[FR Doc. E8-21553 Filed 9-15-08; 8:45 am]

BILLING CODE 8025-01-P